DEPARTMENT OF HEALTH AND HUMAN SERVICES

National Institutes of Health

National Institute of Mental Health; Amended Notice of Meeting

Notice is hereby given of a change in the meeting of the Mental Health Services in Non-Specialty Settings, February 12, 2008, 8 a.m. to February 13, 2008, 5 p.m., One Washington Circle Hotel, One Washington Circle, Washington, DC 20037 which was published in the Federal Register on December 26, 2007, 72FR73034.

The meeting will be held at the same place and time, but will only be held on February 12, 2008. The meeting is closed to the public.

Dated: January 3, 2008.
Jennifer Spaeth,
Director, Office of Federal Advisory Committee Policy.

[FR Doc. 08-47 Filed 1-8-08; 8:45 am]

BILLING CODE 4140-01-M